FEDERAL COMMUNICATIONS COMMISSION

47 CFR Part 0

[DA 00-1784]

Freedom of Information Act

AGENCY: Federal Communications Commission.

ACTION: Final rule.

SUMMARY: The Federal Communications Commission is modifying a section of the Commission's rules that implements the Freedom of Information Act (FOIA) Fee Schedule. This modification pertains to the charge for recovery of the full, allowable direct costs of searching for and reviewing records requested under the FOIA and the Commission's rules, unless such fees are restricted or waived. The fees are being revised to correspond to modifications in the rate of pay approved by Congress.

DATES: Effective September 22, 2000.

FOR FURTHER INFORMATION CONTACT: Kathryn Abbate, Freedom of Information Act Officer, Office of Performance Evaluation and Records Management, Room 1A827, Federal Communications Commission, 445 12th Street, S.W., Washington, DC 20554, (202) 418-0440 or via Internet at kabbate@fcc.gov.

SUPPLEMENTARY INFORMATION: The Federal Communications Commission is modifying § 0.467(a) of the Commission's rules. This rule pertains to the charges for searching and reviewing records requested under the FOIA. The FOIA requires federal agencies to establish a schedule of fees for the processing of requests for agency records in accordance with fee guidelines issued by the Office of Management and Budget (OMB). In 1987, OMB issued its Uniform Freedom of Information Act Fee Schedule and Guidelines. However, because the FOIA requires that each agency's fees be based upon its direct costs of providing FOIA services, OMB did not provide a unitary, government-wide schedule of fees. The Commission based its FOIA Fee Schedule on the grade level of the employee who processes the request. Thus, the Fee Schedule was computed at a Step 5 of each grade level based on the General Schedule effected January 1987. The revisions correspond to modifications in the rate of pay recently approved by Congress.

Regulatory Procedures

This rule has been reviewed under Executive Order No. 12866 and has been determined not to be a “significant rule” since it will not have an annual effect on the economy of $100 million or more.

In addition, it has been determined that this rule will not have a significant economic impact on a substantial number of small entities.

List of Subjects in 47 CFR Part 0

Freedom of information.

Federal Communications Commission.
Magalie Roman Salas,
Secretary.

Rule Changes

Part 0 of Title 47 of the Code of Federal Regulations is amended as follows:

PART 0—COMMISSION ORGANIZATION

1. The authority citation for Part 0 continues to read as follows:

Authority: 47 U.S.C. 155, unless otherwise noted.

2. Section 0.467 (a) (1) is amended by revising the last sentence, the table in paragraph (a)(1) and its note, and paragraph (a)(2) to read as follows:

§ 0.467 Search and Review Fees.

(a)(1) * * * The fee is based on the grade level of the employee(s) who conduct(s) the search or review, as specified in the following schedule:

Grade | Hourly fee
GS-1 | 9.85
GS-2 | 10.73
GS-3 | 12.10
GS-4 | 13.57
GS-5 | 15.18
GS-6 | 16.93
GS-7 | 18.80
GS-8 | 20.83
GS-9 | 23.00
GS-10 | 25.34
GS-11 | 27.84
GS-12 | 33.37
GS-13 | 39.68
GS-14 | 46.88
GS-15 | 55.15

Note: These fees will be modified periodically to correspond with modifications in the rate of pay approved by Congress.

(2) The fees in paragraph (a)(1) of this section were computed at Step 5 of each grade level based on the General Schedule effective January 2000 and include 20 percent for personnel benefits.

* * * * *

[FR Doc. 00-21341 Filed 8-22-00; 8:45 am]

BILLING CODE 6712-01-P